DEPARTMENT OF TRANSPORTATION

Federal Aviation Administration

Notice of Availability of Draft Supplemental Environmental Impact Statement (SEIS), Notice of Public Comment Period and Schedule of Public Workshop/Meeting for Master Plan Development (Midfield Terminal Complex) at Indianapolis International Airport located in Indianapolis, IN

AGENCY: Federal Aviation Administration (FAA), DOT.

ACTION: Notice of availability, notice of comment period, notice of public workshop/meeting.

SUMMARY: The Federal Aviation Administration (FAA) is issuing this notice to advise the public that a Draft Supplement to the 1992 Final Environmental Impact Statement (SEIS)—Master Plan Development, Indianapolis International Airport, has been prepared and is available for public review and comment. Written requests for the Draft SEIS and written comments on the Draft SEIS can be submitted to the individual listed in the section FOR FURTHER INFORMATION, CONTACT. A public workshop/meeting will be held on April 19, 2001. The public comment period will commence on March 16, 2001 and will close on May 7, 2001.

Public Comment and a Workshop/Meeting: The start of the public comment period on the Draft SEIS will be March 16, 2001 and will end on May 7, 2001 (which includes the Council on Environmental quality's required 45 day public comment period from March 23, 2001 to May 7, 2001). A Public Workshop/Meeting will be held on April 19, 2001. Public comments will begin at 5:30 p.m. The Public Workshop/Meeting will last till 8 p.m. The location for the public workshop/meeting is the Holiday Inn-Airport, 2501 S. High School Road, Indianapolis, Indiana.

Copies of the Draft SEIS may be viewed during regular business hours at the following locations:

1. Indianapolis Airport Authority, South High School Road, Indianapolis International Airport, Indianapolis, Indiana 46241.

2. Chicago Airports District Office, Room 312, Federal Aviation Administration, 2300 East Devon Avenue, Des Plaines, Illinois 60018.

3. Marion County Public Library, 40 East St. Clair, Indianapolis, Indiana 46204.

4. Wayne Township Branch Library, 198 South Girls School Road, Indianapolis, Indiana 46214.

5. Decatur Township Branch Library, 5301 Kentucky Avenue, Indianapolis, Indiana 46241.

6. Plainfield Public Library, 1120 Stafford Road, Plainfield, Indiana 46208.

7. Mooresville Public Library, 220 W. Harrison Street, Mooresville, Indiana 46158.

FOR FURTHER INFORMATION CONTACT: Prescott C. Snyder, Airports Environmental Program Manager, Federal Aviation Administration, Chicago Airports District Office, Room 312, 2300 East Devon Avenue, Des Plaines, Illinois 60018. Mr. Snyder can be contacted at (847) 294-7538 (voice), (847) 294-7046 (facsimile) or by e-mail at prescott.snyder@faa.gov.

SUPPLEMENTARY INFORMATION: In November 2000, the Indianapolis Airport Authority (IAA) announced its intention to construct a midfield terminal complex and associated development at Indianapolis International Airport. This was previously evaluated in a 1992 Final Environmental Impact Statement (FEIS) for Master Plan Development. While the majority of the development elements assessed in the 1992 FEIS have been completed, the midfield terminal complex and associated development have not been constructed. However, there have been a number of steps taken towards the development of the midfield terminal complex and associated developments. FAA determined that it was appropriate for FAA to prepare a Supplement to the 1992 Final Environmental Impact Statement (FEIS) because the IAA's proposed development contains some modifications from the same development elements proposed and assessed in the 1992 FEIS. This SEIS is being prepared in accordance with requirements of the National Environmental Policy Act of 1969 (NEPA), as amended, 42 U.S.C. 4332 (2)(C).

The Proposed Project consists of a new midfield terminal complex and associated development (relocation of Airport Traffic Control tower, development of midfield terminal interchange, and construction of cross-field taxiways). It is anticipated that the existing terminal will be closed and demolished. The design for the midfield interchange has been finalized and disclosed as part of the 1995 Federal Highway Administration Draft Environmental Assessment (EA) for Six Points Road Interchange. The SEIS assesses the environmental impacts associated with the construction of the midfield interchange at the location provided in the 1995 FHWA EA. Service roads and interior circulation roadways were not specifically defined in the 1992 FEIS as well. This SEIS will provide the environmental assessment of the location of the airfield service and interior circulation roadways.

Comments from interested parties on the Draft SEIS are encouraged and may be presented verbally at a public workshop/meeting or may be submitted in writing to the FAA at the address listed in section entitled FOR INFORMATION CONTACT. The comment period will close on May 7, 2001.

Issued in Des Plaines, Illinois on March 7, 2001.
Philip M. Smithmeyer,
Manager, Chicago Airports District Office, FAA, Great Lakes Region.

[FR Doc. 01-6375 Filed 3-14-01; 8:45 am]

BILLING CODE 4910-13-M